DEPARTMENT OF THE INTERIOR

Fish and Wildlife Service

Notice of Intent To Prepare a Comprehensive Conservation Plan and Environmental Assessment for the Long Lake National Wildlife Refuge Complex, Moffit, ND

AGENCY: Fish and Wildlife Service, Interior.

ACTION: Notice of intent.

SUMMARY: The U.S. Fish and Wildlife Service intends to gather information necessary to prepare a Comprehensive Conservation Plan and associated environmental documents for the Long Lake National Wildlife Refuge Complex located in central North Dakota. The Service is issuing this notice in compliance with its policy to advise other organizations and the public of its intentions and to obtain suggestions and information on the scope of issues to be considered in the planning process.

DATES: Written comments should be received by July 1, 2004.

ADDRESSES: Comments and requests for more information should be sent to: Long Lake NWR Planning Project, 12000 353rd Street SE, Moffit, ND 58560-9740.

FOR FURTHER INFORMATION CONTACT: Linda Kelly, Refuge Planner, Division of Refuge Planning, PO Box 25486, DFC, Denver, CO 80225; (303) 236-8132.

SUPPLEMENTARY INFORMATION: The Service has initiated comprehensive conservation planning for the Long Lake National Wildlife Refuge Complex for the management of its natural resources. This Refuge is located in central North Dakota.

Comprehensive planning will develop management goals, objectives, and strategies to carry out the purposes of the Complex's refuges and Wetland Management District, and comply with laws and policies governing refuge management and public use of refuges. Opportunities will be provided for public input at open houses to be held near Long Lake Refuge.

All information provided voluntarily by mail, phone, or at public meetings becomes part of the official public record (i.e., names, addresses, letters of comment, input recorded during meetings). If requested under the Freedom of Information Act by a private citizen or organization, the Service may provide copies of such information.

The environmental impact assessment of this project will be conducted in accordance with the requirements of the National Environmental Policy Act of 1969, as amended (42 U.S.C. 4321 et seq.), NEPA Regulations (40 CFR 1500-1508), other appropriate Federal laws and regulations, Executive Order 12996, the National Wildlife Refuge System Improvement Act of 1997, and Service policies and procedures for compliance with those regulations.

Dated: March 3, 2004.
Ralph O. Morgenweck,
Regional Director, Denver, Colorado.

[FR Doc. 04-11529 Filed 5-20-04; 8:45 am]

BILLING CODE 4310-55-P